DEPARTMENT OF THE INTERIOR

Bureau of Land Management

[OR-957-00-1420-BJ: GP02-0087]

Filing of Plats of Survey: Oregon/Washington

AGENCY: Bureau of Land Management, Interior.

ACTION: Notice.

SUMMARY: The plats of survey of the following described lands are scheduled to be officially filed in the Oregon State Office, Portland, Oregon, thirty (30) calendar days from the date of this publication.

Willamette Meridian

Oregon

T. 40 S., R. 7 E., accepted October 16, 2001.

T. 41 S., R. 4 E., accepted October 16, 2001.

T. 32 S., R. 14 W., accepted January 3, 2002.

T. 31 S., R. 12 W., accepted January 3, 2002.

If protests against a survey, as shown on any of the above plat(s), are received prior to the date of official filing, the filing will be stayed pending consideration of the protest(s). A plat will not be officially filed until the day after all protests have been dismissed and become final or appeals from the dismissal affirmed.

The plat(s) will be placed in the open files of the Oregon State Office, Bureau of Land Management, 333 SW 1st Avenue, Portland, Oregon 97204, and will be available to the public as a matter of information only. Copies of the plat(s) may be obtained from the above office upon required payment. A person or party who wishes to protest against a survey must file with the State Director, Bureau of Land Management, Portland, Oregon, a notice that they wish to protest prior to the proposed official filing date given above. A statement of reasons for a protest may be filed with the notice of protest to the State Director, or the statement of reasons must be filed with the State Director within thirty (30) days after the proposed official filing date.

The above-listed plats represent dependent resurveys, survey, and subdivision.

FOR FURTHER INFORMATION CONTACT: Bureau of Land Management, (333 SW 1st Avenue) P.O. Box 2965, Portland, Oregon 97208.

Dated: January 28, 2002.
Robert D. DeViney, Jr.,
Branch of Realty and Records Services.

[FR Doc. 02-7846 Filed 4-1-02; 8:45 am]

BILLING CODE 4310-33-P